DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 24, 2016. Address written comments to Statutory Import Programs Staff, Room 3720, U.S. Department of Commerce, Washington, DC 20230. Applications may be examined between 8:30 a.m. and 5:00 p.m. at the U.S. Department of Commerce in Room 3720.

Docket Number: 15-044. Applicant: University of Pittsburgh, 116 Atwood Street, Suite 201, Pittsburgh, PA 15260. Instrument: Scios Dual Beam Field Emission Scanning Electron Microscope. Manufacturer: Scios, Czech Republic. Intended Use: The instrument will be used to reveal the surface and sub-surface microstructure metrics of structural materials such as steels, Ni-based superalloys, Al-, Ti-, Mn-base and other specialty alloys, functional materials based on ceramic, metal and semiconducting thin films, particulates and composites. Justification for Duty-Free Entry: There are no instruments of the same general category manufactured in the United States. Application accepted by Commissioner of Customs: December 15, 2015.

Docket Number: 15-047. Applicant: Dana-Farber Cancer Institute, 450 Brookline Ave., Boston, MA 02210. Instrument: Electron Microscope. Manufacturer: JEOL, LTD., Japan. Intended Use: The instrument will be used to study a wide range of biomolecules with the overall objective of better understanding the biological processes underlying normal and abnormal (cancer) biological activity. Justification for Duty-Free Entry: There are no instruments of the same general category manufactured in the United States. Application accepted by Commissioner of Customs: December 15, 2015.

Docket Number: 15-049. Applicant: University of Maryland College Park, 2125 J. M. Patterson, College Park, MD 20742. Instrument: Laser lithography system Photonic Professional GT and accessories. Manufacturer: Nanoscribe GmbH, Hermon Von Hermholtz Platz 1, Germany. Intended Use: The fundamental capabilities of the instrument target the nanoscale fabrication of complex 3-dimensional polymer components and systems. The instrument will be used for the characterization and optimization of fabrication resolution and precision for specific applications and device and system level characterization of components manufactured using the nanoscribe tool. It will be used to perform research into the nanoscale patterning of photoactive polymer materials, including epoxy-based photoresists. Unique features of this instrument include two photon polymerization of various UV-curable photoresists, two photon exposure of common positive tone photoresists, and the highest resolution available for a 3D printer. Justification for Duty-Free Entry: There are no instruments of the same general category manufactured in the United States. Application accepted by Commissioner of Customs: December 7, 2015.

Docket Number: 15-054. Applicant: University of Connecticut Health Center, 263 Farmington Ave., Farmington, CT 06030. Instrument: Electron Microscope. Manufacturer: FEI Company, Czech Republic. Intended Use: The instrument will be used to investigate the organization of various organs and tissues obtained from mice. Justification for Duty-Free Entry: There are no instruments of the same general category manufactured in the United States. Application accepted by Commissioner of Customs: November 24, 2015.

Docket Number: 15-056. Applicant: St. Jude Children's Research Hospital, 262 Danny Thomas Place, Memphis, TN 38105. Instrument: Electron Microscope. Manufacturer: FEI Company, Czech Republic. Intended Use: The instrument will be used to study cell and tissue cultures, model systems and human tissue biopsies. Justification for Duty-Free Entry: There are no instruments of the same general category manufactured in the United States. Application accepted by Commissioner of Customs: December 15, 2015.

Docket Number: 15-059. Applicant: Rutgers University, 136 Frelinghuysen Road, Piscataway, NK 08854. Instrument: Low Temperature Scanning Tunneling Microscope. Manufacturer: Unisoku, Japan. Intended Use: The instrument will be used to prepare atomically flat and clean surfaces of samples with proper heat treatment, measure crystal surface's electronic structure with ultimate spatial and energy resolution, observe quantum phenomena accompanied with temperature or magnetic field change at the atomic scale, find the atomic origin of quantum phenomena in strongly correlated materials and control the quantum phenomena by material deposition or atom manipulation. Techniques will include making and maintaining ultra-high vacuum, lowering the temperature by using cryogenic liquids, heating of samples in the vacuum chamber by electron beam heating, cleaving of samples at low temperature, vacuum material evaporation, and scanning probe techniques to get electronic structures of the specimen (scanning tunneling microscopy, scanning tunneling spectroscopy, tip treatment or atom manipulation). Unique features of this instrument include operation temperature of lower than 5K with liquid helium, ultra high vacuum at 1.3x10−⁸ Pa (9.8x10−¹¹ Torr), high magnetic field supplied superconducting magnet with a maximum 8 Tesla field perpendicular to the sample plane, preparation chamber with direct current heating up to 1300C and e-beam heating up to 1500C, IS 40C1 Sputter Cleaning Ion Source with gas inlet package, MAN-SLT cooling and cleaving manipulator, and UHV multi-element miniature evaporator ME series. Justification for Duty-Free Entry: There are no instruments of the same general category manufactured in the United States. Application accepted by Commissioner of Customs: December 15, 2015.

Docket Number: 15-060. Applicant: Kent State University, 1425 University Esplanade, Kent, OH 44242. Instrument: Electron Microscope. Manufacturer: FEI company, the Netherlands. Intended Use: The instrument will be used to characterize various kinds of solid state materials and fabricate nanostructures and devices. Justification for Duty-Free Entry: There are no instruments of the same general category manufactured in the United States. Application accepted by Commissioner of Customs: December 8, 2015.

Dated: February 25, 2016.
Gregory W. Campbell,
Director of Subsidies Enforcement, Enforcement and Compliance.

[FR Doc. 2016-04843 Filed 3-3-16; 8:45 am]

BILLING CODE 3510-DS-P